DEPARTMENT OF THE INTERIOR

National Park Service

National Register of Historic Places; Notification of Pending Nominations

Nominations for the following properties being considered for listing in the National Register were received by the National Park Service before September 6, 2003. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by October 21, 2003.

Patrick W. Andrus,
Acting Keeper of the National Register of Historic Places.

COLORADO

Boulder County

Shannon Farm, 1341 N. 95th St., Lafayette, 03001047

HAWAII

Hawaii County

Central Intermediate School, 1302 Queen Emma St., Honolulu, 03001049

Honolulu County

Kreye House, 2714 Aolani Place, Honolulu, 03001050

Kauai County

Kaua'i Belt Road—North Shore section, HI 560,

Princeville, 03001048

IOWA

Muscatine County

Pine Mills German Methodist Episcopal Church, 180th St. and Verde Ave., Muscatine, 03001051

MISSOURI

Atchison County

Thompson—Campbell Farmstead, 25579 MO U, Langdon, 03001056

Jackson County

Blackstone Hotel, 817 Cherry St.,

Kansas City, 03001057

Knight, William Baker and Mary, House, 3534 Walnut St.,

Kansas City, 03001054

Majestic Apartments, (Colonade Apartment Buildings of Kansas City, MO MPS) 701-707 Benton Blvd., Kansas City, 03001052

Triangle Battery and Service Company Building, 3001-03 Gillham Rd., Kansas City, 03001058

Vaccaro, Joe, Soda Water Manufacturing Company Building, 918-922 E. 5th St., Kansas City, 03001055

St. Louis County

Orrville Historic District, 526 amd 538 Eatherton Rd., Wildwood, 03001053

SOUTH CAROLINA

Saluda County

Spann Methodist Church and Cemetery, 150 Church St., Ward, 03001059

WEST VIRGINIA

Mason County

Smithland Farm, US 35 bet. Lower Nine Mile Rd. and Lower Five Mile Rd., Henderson, 03001061

Mercer County

Mercer Street Historic District, Mercer St. bet. North First St. and North St., Princeton, 03001060

A request for a MOVE has been made for the following resource:

MISSOURI

Callaway County

Pitcher Store, 8513 Pitcher Rd., Fulton vicinity, 01000235

[FR Doc. 03-25209 Filed 10-3-03; 8:45 am]

BILLING CODE 4312-51-P